DEPARTMENT OF THE INTERIOR

National Park Service

[NPS-WASO-NAGPRA-NPS0032222; PPWOCRADN0-PCU00RP14.R50000]

Notice of Intent To Repatriate Cultural Items: Spurlock Museum, University of Illinois at Urbana-Champaign, Urbana, IL

AGENCY: National Park Service, Interior.

ACTION: Notice.

SUMMARY: The Spurlock Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Spurlock Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Spurlock Museum at the address in this notice by August 5, 2021.

FOR FURTHER INFORMATION CONTACT: Krystiana Krupa, NAGPRA Program Officer, University of Illinois at Urbana-Champaign, 412 Swanlund Administration Building, 601 E John Street, MC-304, Champaign, IL 61822, telephone (217) 244-2587, email klkrupa@illinois.edu.

SUPPLEMENTARY INFORMATION: Notice is here given in accordance with the Native American Graves Protection and Repatriation Act (NAGPRA), 25 U.S.C. 3005, of the intent to repatriate cultural items under the control of the Spurlock Museum, University of Illinois at Urbana-Champaign, Urbana, IL, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On an unknown date, 664 cultural items were removed from the San Joaquin Valley in California. On July 17, 1926 they were donated to the Museum of Natural History at the University of Illinois at Urbana-Champaign by Elmer J. Dawson of Lodi, CA. In 1998, they were transferred to the World Heritage Museum at the University of Illinois at Urbana-Champaign, which was renamed the Spurlock Museum in 2000. The 664 unassociated funerary objects are both cut and natural shell beads and pendants. Most of the shell is unidentifiable except for a few beads of abalone (family Halioidae) and one marine mussel (family Mytilidae). Both shells are consistent with the types found at archeological sites near the California shore.

Museum records clearly indicate that the beads and pendants were taken from graves in the San Joaquin Valley. No extant Museum records associate the beads and pendants with human remains. The Santa Rosa Indian Community of the Santa Rosa Rancheria, California provided the museum with maps and written ethnographic, archeological, linguistic, and geographical information about the Yokuts and their inter-relationships with surrounding communities in the territory where the unassociated funerary objects were discovered including the Buena Vista Rancheria of Me-Wuk Indians of California and the Ione Band of Miwok Indians of California.

Determinations Made by the Spurlock Museum, University of Illinois at Urbana-Champaign

Officials of the Spurlock Museum, University of Illinois at Urbana-Champaign have determined that:

• Pursuant to 25 U.S.C. 3001(3)(B), the 664 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Buena Vista Rancheria of Me-Wuk Indians of California; Ione Band of Miwok Indians of California; and the Santa Rosa Indian Community of the Santa Rosa Rancheria, California (hereafter referred to as “The Tribes”).

Additional Requestors and Disposition

Lineal descendants or representatives of any Indian Tribe or Native Hawaiian organization not identified in this notice that wish to claim these cultural items should submit a written request with information in support of the claim to Krystiana Krupa, NAGPRA Program Officer, University of Illinois at Urbana-Champaign, 412 Swanlund Administration Building, 601 E John Street, MC-304, Champaign, IL 61822, telephone (217) 244-2587, email klkrupa@illinois.edu, by August 5, 2021. After that date, if no additional claimants have come forward, transfer of control of the unassociated funerary objects to The Tribes may proceed.

The Spurlock Museum, University of Illinois at Urbana-Champaign is responsible for notifying The Tribes that this notice has been published.

Dated: June 28, 2021.
Melanie O'Brien,
Manager, National NAGPRA Program.

[FR Doc. 2021-14313 Filed 7-2-21; 8:45 am]

BILLING CODE 4312-52-P